COMMITTEE FOR PURCHASE FROM PEOPLE WHO ARE BLIND OR SEVERELY DISABLED

Procurement List; Additions and Deletions

AGENCY: Committee for Purchase from People Who Are Blind or Severely Disabled.

ACTION: Additions to and Deletions from Procurement List.

SUMMARY: This action adds to the Procurement List products and services to be furnished by nonprofit agencies employing persons who are blind or have other severe disabilities, and deletes from the Procurement List services previously furnished by such agencies.

EFFECTIVE DATE: October 29, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On July 21; August 4; and August 11, 2006, the Committee for Purchase From People Who Are Blind or Severely Disabled published notices (71 FR 41417; 44255; and 46188) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSNs: Coat, Airman's Battle Uniform, Men's (ABU) (NISH)

8415-01-536-4578—Size 42 X-Short

8415-01-536-4224—Size 36 Regular

8415-01-536-4188—Size 34 Regular

8415-01-536-4182—Size 34 X-Short

8415-01-536-4193—Size 36 X-Short

8415-01-536-4192—Size 34 X-Long

8415-01-536-4227—Size 36 Long

8415-01-536-4585—Size 42 X-Long

8415-01-536-4583—Size 42 Regular

8415-01-536-4577—Size 40 X-Long

8415-01-536-4640—Size 48 Regular

8415-01-536-4682—Size 50 Regular

8415-01-536-4241—Size 38 Short

8415-01-536-4239—Size 38 X-Short

8415-01-536-4593—Size 46 Short

8415-01-536-4592—Size 44 X-Long

8415-01-536-4588—Size 50 X-Short

8415-01-536-4586—Size 44 Short

8415-01-536-4584—Size 42 Long

8415-01-536-4574—Size 40 Regular

8415-01-535-4170—Size 32 Short

8415-01-536-4712—Size 50 Long

8415-01-536-4639—Size 48 Short

8415-01-536-4651—Size 48 Long

8415-01-536-4367—Size 38 Regular

8415-01-536-4369—Size 38 Long

8415-01-536-4674—Size 50 Short

8415-01-536-4576—Size 40 Long

8415-01-536-4606—Size 46 X-Long

8415-01-536-4596—Size 46 Regular

8415-01-536-4600—Size 46 Long

8415-01-536-4197—Size 36 Short

8415-01-536-4573—Size 40 Short

8415-01-536-4581—Size 42 Short

8415-01-536-4178—Size 32 Regular

8415-01-536-4237—Size 36 X-Long

8415-01-536-4591—Size 44 Long

8415-01-536-4590—Size 44 Regular

8415-01-536-4180—Size 32 Long

8415-01-536-4189—Size 34 Long

8415-01-536-4134—Size 32 X-Short

8415-01-536-4184—Size 34 Short

8415-01-536-4572—Size 40 X-Short

8415-01-536-4571—Size 38 X-Long

Product/NSNs: Coat, Airman's Battle Uniform, Women's, (ABU)

8410-01-536-3760—Size 6 Short

8410-01-536-3000—Size 6 X-Short

8410-01-536-2994—Size 4 Regular

8410-01-536-3763—Size 6 Regular

8410-01-536-2980—Size 4 X-Short

8410-01-536-2977—Size 2 Regular

8410-01-536-2974—Size 2 Short

8410-01-536-2982—Size 4 Short

8410-01-536-3825—Size 20 Regular

8410-01-536-3819—Size 18 Regular

8410-01-536-3822—Size 18 Long

8410-01-536-3816—Size 18 Short

8410-01-536-3814—Size 16 Long

8410-01-536-3812—Size 16 Regular

8410-01-536-3808—Size 16 Short

8410-01-536-3807—Size 16 X-Short

8410-01-536-3805—Size 14 Long

8410-01-536-3804—Size 14 Regular

8410-01-536-3803—Size 14 Short

8410-01-536-3800—Size 14 X-Short

8410-01-536-3799—Size 12 Long

8410-01-536-3797—Size 12 Regular

8410-01-536-3795—Size 12 Short

8410-01-536-3793—Size 12 X-Short

8410-01-536-3792—Size 10 Long

8410-01-536-3789—Size 10 Regular

8410-01-536-3787—Size 10 Short

8410-01-536-3784—Size 10 X-Short

8410-01-536-3782—Size 8 Long

8410-01-536-3779—Size 6 Long

8410-01-536-3776—Size 8 Regular

8410-01-536-3772—Size 8 Short

8410-01-536-3769—Size 8 X-Short

NPA: Goodwill Industries of South Florida, Inc., Miami, Florida.

NPA: Four Rivers Resource Services, Inc., Linton, IN (at its facility in Sullivan, Indiana).

Coverage: The requirement being proposed for addition to the Procurement List is a quantity of no more than 100,000 units of any combination of the above NSNs for Coat, Airman's Battle Uniform, Men's or Coat, Airman's Battle Uniform, Women's.

Product/NSNs: Trousers, Airman's Battle Uniform, Men's (ABU)

8415-01-536-4121—Size 46 Long

8415-01-536-4111—Size 46 Regular

8415-01-536-4103—Size 44 Short

8415-01-536-4102—Size 44 Regular

8415-01-536-4088—Size 42 Long

8415-01-536-4077—Size 42 Short

8415-01-536-4075—Size 40 X-Long

8415-01-536-4073—Size 40 Long

8415-01-536-4067—Size 40 Short

8415-01-536-4021—Size 38 X-Long

8415-01-536-3935—Size 38 Long

8415-01-536-3920—Size 38 Short

8415-01-536-3916—Size 38 X-Short

8415-01-536-3912—Size 36 X-Long

8415-01-536-3905—Size 36 Long

8415-01-536-3903—Size 36 Regular

8415-01-536-3893—Size 36 Short

8415-01-536-3890—Size 40 X-Short

8415-01-536-3874—Size 34 X-Long

8415-01-536-3869—Size 34 Long

8415-01-536-3855—Size 34 Regular

8415-01-536-3849—Size 34 Short

8415-01-536-3846—Size 34 X-Short

8415-01-536-3844—Size 32 X-Long

8415-01-536-3836—Size 32 Long

8415-01-536-3833—Size 32 Regular

8415-01-536-3830—Size 32 Short

8415-01-536-3880—Size 36 X-Short

8415-01-536-3826—Size 32 X-Short

8415-01-536-3823—Size 30 X-Long

8415-01-536-3821—Size 30 Long

8415-01-536-3817—Size 30 Regular

8415-01-536-3809—Size 30 X-Short

8415-01-536-3794—Size 30 Short

8415-01-536-3791—Size 28 X-Long

8415-01-536-3927—Size 38 Regular

8415-01-536-3777—Size 28 Long

8415-01-536-3774—Size 28 Regular

8415-01-536-3759—Size 28 Short

8415-01-536-4071—Size 40 Regular

8415-01-536-3758—Size 28 X-Short

8415-01-536-4109—Size 44 Long

8415-01-536-4081—Size 42 Regular

Product/NSNs: Trousers, Airman's Battle Uniform, Women's, (ABU)

8410-01-536-2748—Size 12 Short

8410-01-536-2746—Size 12 X-Short

8410-01-536-2744—Size 10 Long

8410-01-536-2740—Size 10 Short

8410-01-536-2739—Size 10 X-Short

8410-01-536-2736—Size 8 Long

8410-01-536-2725—Size 8 Short

8410-01-536-2723—Size 8 X-Short

8410-01-536-2721—Size 6 Long

8410-01-536-2720—Size 6 Regular

8410-01-536-2719—Size 6 Short

8410-01-536-2718—Size 6 X-Short

8410-01-536-2715—Size 4 Regular

8410-01-536-2714—Size 4 X-Short

8410-01-536-2711—Size 2 Regular

8410-01-536-2709—Size 2 Short

8410-01-536-2734—Size 8 Regular

8410-01-536-2742—Size 10 Regular

8410-01-536-2749—Size 12 Regular

8410-01-536-2785—Size 22 Regular

8410-01-536-2783—Size 20 Long

8410-01-536-2780—Size 20 Regular

8410-01-536-2778—Size 18 Long

8410-01-536-2774—Size 18 Regular

8410-01-536-2773—Size 18 Short

8410-01-536-2771—Size 16 Long

8410-01-536-2770—Size 16 Regular

8410-01-536-2766—Size 16 Short

8410-01-536-2765—Size 16 X-Short

8410-01-536-2761—Size 14 Long

8410-01-536-2760—Size 14 Regular

8410-01-536-2756—Size 14 Short

8410-01-536-2801—Size 4 Short

8410-01-536-2754—Size 14 X-Short

8410-01-536-2752—Size 12 Long

NPA: Four Rivers Resource Services, Inc., Sullivan, Indiana.

NPA: Goodwill Industries of South Florida, Inc., Miami, Florida.

NPA: Casco Area Workshop, Inc., Harrisonville, Missouri.

Coverage: The requirement being proposed for addition to the Procurement List is a quantity of no more than 200,000 units of any combination of the above NSNs for Trousers, Airman's Battle Uniform, Men's or Trousers, Airman's Battle Uniform, Women's.

Contracting Activity Officer: Mr. Robert Panichelle, Defense Supply Center Philadelphia, Philadelphia, PA.

ServiceS

Service Type/Location: Document Destruction, Internal Revenue Service, 1901 Butterfield Road, Downers Grove, Illinois.

2001 Butterfield Road, Downers Grove, Illinois.

230 S. Dearborn Street, IRS Field Procurement Operation, Chicago, Illinois.

3615 Park Drive, Olympia Fields, Illinois.

5860 W. 111th Street, Chicago, Illinois.

8125 River Drive, Morton Grove, Illinois.

860 Algonquin Road, Schaumburg, Illinois.

945 Lake View Parkway, Vernon Hills, Illinois.

NPA: Opportunity, Inc., Highland Park, IL.

Contracting Activity: Internal Revenue Service, Dallas, TX.

Service Type/Location: Document Destruction, U.S. Railroad Retirement Board, 844 North Rush Street, Chicago, Illinois.

NPA: Opportunity, Inc., Highland Park, Illinois.

Contracting Activity Officer: U.S. Railroad Retirement Board, Chicago, Illinois.

Service Type/Location: Facilities Management, Air Force Space Command, Los Angeles Air Force Base, El Segundo, California.

NPA: PRIDE Industries, Inc., Roseville, California.

Contracting Activity: 61st Contracting Squardon/LGCC, El Segundo, California.

Deletions

On August 4, 2006, the Committee for Purchase From People Who Are Blind or Severely Disabled published notice (70 FR 44255) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Grounds Maintenance, U.S. Army Reserve Center, Anthony F. Eafrati, Weirton, Weirton, West Virginia.

NPA: Hancock County Sheltered Workshop, Inc., Weirton, West Virginia.

Contracting Activity: Department of the Army.

Service Type/Location: Janitorial/Custodial, GSA, Distribution Depot, 500 Edwards Avenue, Harahan, Louisiana.

NPA: Louisiana Industries for the Disabled, Inc., Baton Rouge, Louisiana.

Contracting Activity: GSA, PBS.

Sheryl D. Kennerly,
Director, Information Management.

[FR Doc. E6-16080 Filed 9-28-06; 8:45 am]

BILLING CODE 6353-01-P